COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products to the Procurement List that will be furnished by nonprofit agencies employing persons who are blind or have other severe disabilities.

DATES: Effective Date: November 26, 2012.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION:

Additions

On 6/15/2012 (77 FR 35942-35944) and 8/24/2012 (77 FR 51522-51523), the Committee for Purchase From People Who Are Blind or Severely Disabled published notices of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN: 9905-00-NIB-0343—Tape, Barricade, Yellow, “CAUTION”, Economy Grade, 3”W x 1000'L

NSN: 9905-00-NIB-0344—Tape, Barricade, Yellow, “CAUTION”, Premium Grade, 3”W x 1000'L

Coverage: A-List for the Total Government Requirement as aggregated by the General Services Administration.

NSN: 9905-00-NIB-0342—Tape, Barricade, Red, “DANGER”, Economy Grade, 3”W x 1000'L

Coverage: B-List for the Broad Government Requirement as aggregated by the General Services Administration.

NPA: West Texas Lighthouse for the Blind, San Angelo, TX

Contracting Activity: General Services Administration, Fort Worth, TX

Eyewear

NSN: 6650-00-NIB-0009—Single Vision, Plastic, Clear

NSN: 6650-00-NIB-0010—Flat Top 28, Bifocal, Plastic, Clear

NSN: 6650-00-NIB-0011—Flat Top 35, Bifocal, Plastic, Clear

NSN: 6650-00-NIB-0012—Round 25, Round 28 Bifocal, Plastic, Clear

NSN: 6650-00-NIB-0013—Flat Top 7x28, Trifocal, Plastic, Clear

NSN: 6650-00-NIB-0014—Flat Top 8x35, Trifocal, Plastic, Clear

NSN: 6650-00-NIB-0015—Progressives, Plastic, Clear

NSN: 6650-00-NIB-0016—SV, Aspheric, Lenticular, Plastic, Clear

NSN: 6650-00-NIB-0017—FT/Round, Aspheric, Lenticular, Plastic, Clear

NSN: 6650-00-NIB-0018—Bifocal, Executive, Plastic, Clear

NSN: 6650-00-NIB-0019—Single Vision, Glass, Clear

NSN: 6650-00-NIB-0020—Flat Top 28, Bifocal, Glass, Clear

NSN: 6650-00-NIB-0021—Flat Top 35, Bifocal, Glass, Clear

NSN: 6650-00-NIB-0022—Flat Top 7x28, Trifocal, Glass, Clear

NSN: 6650-00-NIB-0023—Flat Top 8x35, Trifocal, Glass, Clear

NSN: 6650-00-NIB-0024—Progressives, Glass, Clear

NSN: 6650-00-NIB-0025—Executive, Bifocal, Glass, Clear

NSN: 6650-00-NIB-0026—Single Vision, Polycarbonate, Clear

NSN: 6650-00-NIB-0027—Flat Top 28, Bifocal, Polycarbonate, Clear

NSN: 6650-00-NIB-0028—Flat Top 35, Bifocal, Polycarbonate, Clear

NSN: 6650-00-NIB-0029—Flat Top 7x28, Trifocal, Polycarbonate, Clear

NSN: 6650-00-NIB-0030—Flat Top 8x35, Trifocal, Polycarbonate, Clear

NSN: 6650-00-NIB-0031—Progressives (VIP, Adaptar, Freedom, Image), Polycarbonate

NSN: 6650-00-NIB-0032—Single Vision, Plastic, Clear

NSN: 6650-00-NIB-0033—Flat Top 28, Bifocal, Plastic, Clear

NSN: 6650-00-NIB-0034—Flat Top 35, Bifocal, Plastic, Clear

NSN: 6650-00-NIB-0035—Round 25 and 28, Bifocal, Plastic, Clear

NSN: 6650-00-NIB-0036—Flat Top 7x28, Trifocal, Plastic, Clear

NSN: 6650-00-NIB-0037—Flat Top 8x35, Trifocal, Plastic, Clear

NSN: 6650-00-NIB-0038—Progressives, Plastic, Clear

NSN: 6650-00-NIB-0039—SV, Aspheric, Lenticular, Plastic, Clear

NSN: 6650-00-NIB-0040—FT or round aspheric lenticular, Plastic, Clear

NSN: 6650-00-NIB-0041—Bifocal, Executive, Plastic, Clear

NSN: 6650-00-NIB-0042—Single Vision, Glass, Clear

NSN: 6650-00-NIB-0043—Flat Top 28, Bifocal, Glass, Clear

NSN: 6650-00-NIB-0044—Flat Top 35, Bifocal, Glass, Clear

NSN: 6650-00-NIB-0045—Flat Top 7x28, Trifocal, Glass, Clear

NSN: 6650-00-NIB-0046—Flat Top 8x35, Trifocal, Glass, Clear

NSN: 6650-00-NIB-0047—Progressives (VIP, Adaptar, Freedom), Glass, Clear

NSN: 6650-00-NIB-0048—Bifocal, Executive, Glass, Clear

NSN: 6650-00-NIB-0049—Single Vision, Polycarbonate, Clear

NSN: 6650-00-NIB-0050—Flat Top 28, Polycarbonate, Clear

NSN: 6650-00-NIB-0051—Flat Top 35, Bifocal, Polycarbonate, Clear

NSN: 6650-00-NIB-0052—Flat Top 7x28, Trifocal, Polycarbonate, Clear

NSN: 6650-00-NIB-0053—Flat Top 8x35, Trifocal, Polycarbonate, Clear

NSN: 6650-00-NIB-0054—Lenses, Progressives (VIP, Adaptar, Freedom, Image), Polycarbonate

NSN: 6650-00-NIB-0055—Transition, Plastic, CR-39

NSN: 6650-00-NIB-0056—Photochromatic/Transition (Polycarbonate Material)

NSN: 6650-00-NIB-0057—Photogrey (glass only)

NSN: 6650-00-NIB-0058—High Index transition (CR 39)

NSN: 6650-00-NIB-0059—Anti-reflective Coating (CR 39 and polycarbonate)

NSN: 6650-00-NIB-0060—Ultraviolet Coating (CR 39)

NSN: 6650-00-NIB-0061—Polarized Lenses (CR 39)

NSN: 6650-00-NIB-0062—Slab-off (polycarbonate, CR 39: trifocal and bifocal)

NSN: 6650-00-NIB-0063—High Index (CR-39)

NSN: 6650-00-NIB-0064—Prism (up to 6 diopters no charge) > 6 diopters/diopter

NSN: 6650-00-NIB-0065—Diopter + or −9.0 and above

NSN: 6650-00-NIB-0066—Lenses, oversize eye, greater than 58, excluding progressive.

NSN: 6650-00-NIB-0067—Hyper 3 drop SV, multifocal (CR 39)

NSN: 6650-00-NIB-0068—Add powers over 4.0

NSN: 6650-00-NIB-0069—Plastic or Metal

Coverage: C-List for 100% of the requirements of Veterans Integrated Service Networks 1, 3, 4, 5, 6, 7, and 8 as aggregated by the Service Area Office East, Veterans Health Administration, Department of Veterans Affairs, Pittsburgh PA.

NPA: Winston-Salem Industries for the Blind, Inc., Winston-Salem, NC

Contracting Activity: Department of Veterans Affairs Service Area Organization East, Pittsburgh, PA

Barry S. Lineback,
Director, Business Operations.

[FR Doc. 2012-26359 Filed 10-25-12; 8:45 am]

BILLING CODE 6353-01-P